DEPARTMENT OF COMMERCE

National Oceanic and Atmospheric Administration

RIN 0648-XE422

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors on February 24-25, 2016. The intent of this meeting is to discuss issues of relevance to the Councils, including budget allocations for FY2016 and budget planning for FY2017 and beyond; an overview of the Saltonstall-Kennedy FY15-16 grants process; the FY2016 legislative outlook; updates on electronic monitoring, NMFS bycatch strategy and catch share program review guidance, the NMFS climate science strategy, ecosystem based fisheries management, stock assessment prioritization; and Council workgroup updates, including Citizen Science Workshop and other topics related to implementation of the Magnuson-Stevens Fishery Conservation and Management Reauthorization Act.

DATES: The meeting will begin at 8:30 a.m. on Wednesday, February 24, 2016, recess at 5 p.m. or when business is complete; and reconvene at 9 a.m. on Thursday, February 25, 2016, and adjourn by 3:30 p.m. or when business is complete.

ADDRESSES: The meeting will be held at the Holiday Inn Capitol Hill, 550 C Street SW., Washington, DC 20024, telephone 202-479-4000, fax 202-288-4627.

FOR FURTHER INFORMATION CONTACT: Brian Fredieu: telephone 301-427-8505 or email at Brian.Fredieu@noaa.gov.

SUPPLEMENTARY INFORMATION: The Magnuson-Stevens Fishery Conservation and Management Reauthorization Act established the CCC by amending section 302 (16 U.S.C. 1852) of the MSA. The committee consists of the chairs, vice chairs, and executive directors of each of the eight Regional Fishery Management Councils authorized by the MSA or other Council members or staff. NMFS will host this meeting and provide reports to the CCC for its information and discussion. All sessions are open to the public.

Proposed Agenda

Wednesday, February 24, 2016

8:30 a.m.—Morning session begins

• Welcome/Introductions

• NMFS Update

• Management and Budget update: FY2016—Status, Council funding; FY2017—Update Budget Outlook; Records Management

• Overview of S/K Grant Process

• Legislative Outlook

• Electronic Monitoring Update

• Observer Program and Electronic Monitoring Funding Update

• Bycatch Strategy Update

• Update on Review of Council Conflict of Interest Regulations

5 p.m.—Adjourn for the day

Thursday, February 25, 2016

9 a.m.—Morning Session Begins

• Catch Share Program Review Guidance

• NMFS Science Update: Climate Science Strategy, EBFM, and Stock Assessment Prioritization

• American Fisheries Society Presentation: Aquatic Resource Recommendations for the Next Administration

• South Atlantic Fishery Management Council Citizen Science Workshop

• Council Workgroup Updates

3:30 p.m.—Adjourn for the day

The order in which the agenda items are addressed may change. The CCC will meet as late as necessary to complete scheduled business.

Special Accommodations

This meeting is physically accessible to people with disabilities. Requests for sign language interpretation or other auxiliary aids should be directed to Brian Fredieu at 301-427-8505 at least five working days prior to the meeting.

Dated: February 2, 2016.
Alan Risenhoover,
Director, Office of Sustainable Fisheries, National Marine Fisheries Service.

[FR Doc. 2016-02239 Filed 2-4-16; 8:45 am]

BILLING CODE 3510-22-P